Proclamation 9112 of April 30, 2014

National Mental Health Awareness Month, 2014

By the President of the United States of America

A Proclamation

Despite great strides in our understanding of mental illness and vast improvements in the dialogue surrounding it, too many still suffer in silence. Tens of millions of Americans face mental health conditions like depression, anxiety, bipolar disorder, schizophrenia, or post-traumatic stress disorder. During National Mental Health Awareness Month, we reaffirm our commitment to building our understanding of mental illness, increasing access to treatment, and ensuring those who are struggling to know they are not alone.

Over the course of a year, one in five adults will experience a mental illness, yet less than half will receive treatment. Because this is unacceptable, my Administration is fighting to make mental health care more accessible than ever. Through the Affordable Care Act (ACA), we are extending mental health and substance use disorder benefits and parity protections to over 60 million Americans. Because of the ACA, insurers can no longer deny coverage or charge patients more due to pre-existing health conditions, including mental illness. The ACA also requires health plans to cover recommended preventive services like depression screening and behavioral assessments at no out-of-pocket cost. And under this law, we are expanding services for mental health and substance use disorder at community health centers across the country.

My Administration is also investing in programs that promote mental health among young people. We secured new funding to train teachers to identify and respond to mental illness and to train thousands of additional mental health professionals to serve students. And because it is our sacred obligation to give our veterans the support they have earned, we have increased the number of Department of Veterans Affairs (VA) mental health providers, enhanced VA partnerships with community providers, and improved Government coordination on research efforts.

We too often think about mental health differently from other forms of health. Yet like any disease, mental illnesses can be treated—and without help, they can grow worse. That is why we must build an open dialogue that encourages support and respect for those struggling with mental illness. To learn how you can get involved, visit www.MentalHealth.gov. Those seeking immediate help should call 1-800-662-HELP. The National Suicide Prevention Lifeline also offers immediate assistance for all Americans, including service members and veterans, at 1-800-273-TALK.

NOW, THEREFORE, I, BARACK OBAMA, President of the United States of America, by virtue of the authority vested in me by the Constitution and the laws of the United States, do hereby proclaim May 2014 as National Mental Health Awareness Month. I call upon citizens, government agencies, organizations, health care providers, and research institutions to raise mental health awareness and continue helping Americans live longer, healthier lives.

IN WITNESS WHEREOF, I have hereunto set my hand this thirtieth day of April, in the year of our Lord two thousand fourteen, and of the Independence of the United States of America the two hundred and thirty-eighth.

[FR Doc. 2014-10453

Filed 5-5-14; 8:45 am]

Billing code 3295-F4